INTERNATIONAL TRADE COMMISSION

[USITC SE-04-025]

Government in the Sunshine Act Meeting Notice

Agency Holding the Meeting: United States International Trade Commission.

Time and Date: September 29, 2004, at 11 a.m.

Place: Room 101, 500 E Street, SW., Washington, DC 20436, telephone: (202) 205-2000.

Status: Open to the public.

Matters to be Considered:

1. Agenda for future meetings: None.

2. Minutes.

3. Ratification list.

4. Inv. Nos. 731-TA-1054 and 1055 (Final) (Light-Walled Rectangular Pipe and Tube from Mexico and Turkey)—briefing and vote. (The Commission is currently scheduled to transmit its determination and Commissioners' opinions to the Secretary of Commerce on or before October 12, 2004.)

5. Outstanding action jackets:

(1) Document No. GC-04-095 concerning Inv. Nos. 701-TA-384 and 731-TA-806-808 (Review) (Hot-Rolled Flat-Rolled Carbon-Quality Steel Products from Brazil, Japan, and Russia).

(2) Document No. GC-04-114 concerning proposed rulemaking and changes in Agency procedures.

(3) Document No. ID-04-031 concerning Inv. No. 332-454 (Remediation and Nature and Landscape Protection Services: An Examination of U.S. and Foreign Markets).

In accordance with Commission policy, subject matter listed above, not disposed of at the scheduled meeting, may be carried over to the agenda of the following meeting.

By order of the Commission:
Issued: September 9, 2004.
Marilyn R. Abbott,
Secretary to the Commission.

[FR Doc. 04-21672 Filed 9-23-04; 11:11 am]

BILLING CODE 7020-02-P